SECURITIES AND EXCHANGE COMMISSION

Sunshine Act Meeting

Federal Register Citation of Previous Announcement: [67 FR 59322, September 20, 2002].

Status: Closed Meeting.

Place: 450 Fifth Street, NEW., Washington, DC.

Date and Time of Previously Announced Meeting: Tuesday, September 24, 2002 at 2:30 p.m.

Change in the Meeting: Additional Meeting.

An additional Closed Meeting was held on Wednesday, September 25, 2002 at 10:15 a.m. The subject matter of the September 25, 2002 Closed Meeting was:Adjudicatory matter.

Commissioner Campos, as duty officer, determined that no earlier notice thereof was possible.

At times, changes in Commission priorities require alterations in the scheduling of meeting items. For further information and to ascertain what, if any, matters have been added, deleted or postponed, please contact:

The Office of the Secretary at (202) 942-7070.

Dated: September 25, 2002.
Margaret H. McFarland,
Deputy Secretary.

[FR Doc. 02-24821 Filed 9-25-02; 4:26 pm]

BILLING CODE 8010-01-P